COMMODITY FUTURES TRADING COMMISSION

Agency Information Collection Activities: Notice of Intent To Renew Collection 3038-0023, Registration Under the Commodity Exchange Act

AGENCY: Commodity Futures Trading Commission.

ACTION: Notice.

SUMMARY: The Commodity Futures Trading Commission (“CFTC” or “Commission”) is announcing an opportunity for public comment on the proposed renewal of a collection of certain information by the agency. Under the Paperwork Reduction Act of 1995 (“PRA”), Federal agencies are required to publish notice in the Federal Register concerning each proposed collection of information, including each proposed extension of an existing collection of information, and to allow 60 days for public comment. This notice solicits comments on the extension of information collection requirements relating to registration under the Commodity Exchange Act, OMB Control No. 3038-0023 (Registration under the Commodity Exchange Act).

DATES: Comments must be submitted on or before December 19, 2022.

ADDRESSES: You may submit comments, identified by “Registration under the Commodity Exchange Act,” Collection Number 3038-0023, by any of the following methods:

• The Agency's website, at https://comments.cftc.gov/. Follow the instructions for submitting comments through the website.

• Mail: Christopher Kirkpatrick, Secretary of the Commission, Commodity Futures Trading Commission, Three Lafayette Centre, 1155 21st Street NW, Washington, DC 20581.

• Hand Delivery/Courier: Same as Mail above.

Please submit your comments using only one method. All comments must be submitted in English, or if not, accompanied by an English translation. Comments will be posted as received to https://www.cftc.gov.

FOR FURTHER INFORMATION CONTACT: Christopher W. Cummings, Market Participants Division, Commodity Futures Trading Commission, (202) 418-5445 or ccummings@cftc.gov, and refer to OMB Control No. 3038-0023.

SUPPLEMENTARY INFORMATION: Under the PRA, 44 U.S.C. 3501 et seq., Federal agencies must obtain approval from the Office of Management and Budget (“OMB”) for each collection of information they conduct or sponsor. “Collection of information” is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the Commission is publishing notice of the proposed collection of information listed below. An agency may not conduct or sponsor, and a person is not required to respond to, a collection of information unless it displays a currently valid OMB control number.

Title: Registration under the Commodity Exchange Act (OMB Control No. 3038-0023). This is a request for an extension of a currently approved information collection.

Abstract: The information collected under is gathered through the use of forms for registration of firms and individuals who are required by the Commodity Exchange Act (“CEA”) to register with the Commission. The CEA requires commodity interest market intermediaries and participants to register, including: Futures commission merchants and introducing brokers (7 U.S.C. 6d); Commodity pool operators and commodity trading advisors (7 U.S.C. 6m(1)); Retail foreign exchange dealers (7 U.S.C. 2(c)); Associated persons (7 U.S.C. 6k); Floor traders or floor brokers (7 U.S.C. 6e); and Swap dealers and major swap participants (7 U.S.C. 6s(a)). The CFTC uses various forms for registration (and withdrawal therefrom) (the “Registration Forms”). OMB Control No. 3038-0023 applies to the Registration Forms for registration of persons other than swap dealers and major swap participants.¹

¹ Forms for registration of swap dealers and major swap participants are the subject of a separate information collection (OMB Control Number 3038-0072).

With respect to the collection of information, the Commission invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate electronic, mechanical, or other technological collection techniques or other forms of information technology; e.g., permitting electronic submission of responses.

You should submit only information that you wish to make available publicly. If you wish the Commission to consider information that you believe is exempt from disclosure under the Freedom of Information Act, a petition for confidential treatment of the exempt information may be submitted according to the procedures established in § 145.9 of the Commission's regulations.²

² 17 CFR 145.9.

The Commission reserves the right, but shall have no obligation, to review, pre-screen, filter, redact, refuse or remove any or all of your submission from https://www.cftc.gov that it may deem to be inappropriate for publication, such as obscene language. All submissions that have been redacted or removed that contain comments on the merits of the information collection request will be retained in the public comment file and will be considered as required under the Administrative Procedure Act and other applicable laws, and may be accessible under the Freedom of Information Act.

Burden Statement: The Commission is revising its estimate of the burden for this collection to reflect changed circumstances as described below.

Respondents/Affected Entities: Users of Commission registration forms that are futures commission merchants, retail foreign exchange dealers, introducing brokers, commodity trading advisors, commodity pool operators, floor trader firms, leverage transaction merchants, associated person, and principals of registrants.

Estimated number of respondents: 78,055.

Estimated total annual burden on respondents: 7,852 hours.

Frequency of responses: Periodically.

There are no capital costs or operating and maintenance costs associated with this collection.

(Authority: 44 U.S.C. 3501 et seq.)

Dated: October 13, 2022.
Robert Sidman,
Deputy Secretary of the Commission.

[FR Doc. 2022-22605 Filed 10-17-22; 8:45 am]

BILLING CODE 6351-01-P